DEPARTMENT OF COMMERCE

International Trade Administration

[A-122-503, A-351-503, A-570-502, C-351-504]

Iron Construction Castings From Brazil, Canada, and the People's Republic of China: Continuation of Antidumping Duty Orders and Countervailing Duty Order

AGENCY: Enforcement and Compliance, International Trade Administration, Department of Commerce.

SUMMARY: The Department of Commerce (the Department) and the International Trade Commission (the ITC) have determined that revocation of the antidumping duty (AD) orders on certain iron construction castings (iron castings) from Brazil, Canada, and the People's Republic of China (PRC) would likely lead to continuation or recurrence of dumping and material injury to an industry in the United States. The Department and the ITC have also determined that revocation of the countervailing duty (CVD) order on heavy iron construction castings (heavy iron castings) from Brazil would likely lead to continuation or recurrence of net countervailable subsidies and material injury to an industry in the United States. Therefore, the Department is publishing a notice of continuation of the AD orders and the CVD order.

DATES: Effective January 6, 2017.

FOR FURTHER INFORMATION CONTACT: Shanah Lee or Patricia Tran, AD/CVD Operations, Office III, Enforcement and Compliance, International Trade Administration, U.S. Department of Commerce, 1401 Constitution Avenue NW., Washington, DC 20230; telephone: (202) 482-6386 or (202) 482-1503, respectively.

SUPPLEMENTARY INFORMATION:

Background

On October 1, 2015, the Department initiated ¹ and the ITC instituted ² five-year (sunset) reviews of the AD Orders ³ on iron castings from Brazil, Canada, and the PRC, and the CVD Order ⁴ on heavy iron castings from Brazil pursuant to section 751(c) of the Tariff Act of 1930, as amended (the Act). The Department conducted expedited sunset reviews of these orders. As a result of its reviews, the Department determined that revocation of the AD Orders on iron castings would likely lead to continuation or recurrence of dumping and that revocation of the CVD Order on heavy iron castings would likely lead to continuation or recurrence of net countervailable subsidies.⁵ Therefore, the Department notified the ITC of the magnitude of the margins and the net countervailable subsidy rate likely to prevail should the orders be revoked, pursuant to sections 751(c)(1) and 752(b) and (c) of the Act.⁶

¹ See Initiation of Five-year (“Sunset”) Reviews, 80 FR 59133 (October 1, 2015).

² See Iron Construction Castings From Brazil, Canada, and China; Institution of Five-Year Reviews, 80 FR 59192 (October 1, 2015).

³ See Antidumping Duty Order; Iron Construction Castings From Brazil, 51 FR 17220 (May 9, 1986); Antidumping Duty Order; Certain Iron Construction Castings Grom Canada, 51 FR 7600 (March 5, 1986), as amended by Iron Construction Castings From Canada; Amendment to Final Determination of Sales at Less Than Fair Value and Amendment to Antidumping Duty Order, 51 FR 34110 (September 25, 1986); Antidumping Duty Order; Iron Construction Castings From the People's Republic of China, 51 FR 17222 (May 9, 1986) (collectively AD Orders).

⁴ See Countervailing Duty Order; Certain Heavy Iron Construction Casting From Brazil, 51 FR 17786 (May 15, 1986) (CVD Order).

⁵ See Iron Construction Castings From Brazil, Canada, and, the People's Republic of China: Final Results of Expedited Sunset Reviews of the Antidumping Duty Orders, 81 FR 7083 (February 10, 2016), and Heavy Iron Construction Castings From Brazil: Final Results of Expedited Fourth Sunset Review of the Countervailing Duty Order, 81 FR 6237 (February 5, 2016).

⁶ See Iron Construction Castings From Brazil, Canada, and, the People's Republic of China: Final Results of Expedited Sunset Reviews of the Antidumping Duty Orders, 81 FR 7083 (February 10, 2016), and Heavy Iron Construction Castings From Brazil: Final Results of Expedited Fourth Sunset Review of the Countervailing Duty Order, 81 FR 6237 (February 5, 2016).

On December 28, 2016, the ITC published its determination, pursuant to sections 751(c) and 752 of the Act, that revocation of the AD orders on iron castings from Brazil, Canada, and the PRC, and the CVD order on heavy iron castings from Brazil, would likely lead to continuation or recurrence of material injury to an industry in the United States within a reasonably foreseeable time.⁷

⁷ See Iron Construction Castings From Brazil, Canada, and China; Determination, 81 FR 95639 (December 28, 2016). See also the letter from the Chairman of the ITC, Irving Williamson, to Deputy Assistant Secretary Christian Marsh, dated December 21, 2016.

Scopes of the AD Orders

Brazil

The merchandise covered by the order consists of certain iron construction castings from Brazil, limited to manhole covers, rings, and frames, catch basin grates and frames, cleanout covers and frames used for drainage or access purposes for public utility, water and sanitary systems, classifiable as heavy castings under Harmonized Tariff Schedule (HTS) item under 7325.10.0010; and to valve, service, and meter boxes which are placed below ground to encase water, gas, or other valves, or water and gas meters, classifiable as light castings under HTS item number 7325.10.0050. The HTS item numbers are provided for convenience and customs purposes only. The written product description remains dispositive.

Canada

The merchandise covered by the order consists of certain iron construction castings from Canada, limited to manhole covers, rings, and frames, catch basin grates and frames, clean-out covers, and frames used for drainage or access purposes for public utility, water and sanitary systems, classifiable as heavy castings under HTS item number 7325.10.0010. The HTS item number is provided for convenience and customs purposes only. The written product description remains dispositive.

PRC

The products covered by the order are certain iron construction castings from the PRC, limited to manhole covers, rings and frames, catch basin grates and frames, cleanout covers and drains used for drainage or access purposes for public utilities, water and sanitary systems; and valve, service, and meter boxes which are placed below ground to encase water, gas, or other valves, or water or gas meters. These articles must be of cast iron, not alloyed, and not malleable. This merchandise is currently classifiable under the HTS item numbers 7325.10.0010 and 7325.10.0050. The HTS item numbers are provided for convenience and customs purposes. The written product description remains dispositive.

Scope of the CVD Order

Brazil

The products covered by this order are certain heavy iron construction castings, which are defined for purposes of this proceeding as manhole covers, rings and frames; catch basin grates and frames; and cleanout covers and frames. Such castings are used for drainage or access purposes for public utility, water and sanitary systems. These articles must be of cast iron, not alloyed, and not malleable. The merchandise is currently classified under HTS item number 7325.10.00. While the HTSUS subheading is provided for convenience and customs purposes, the written description of the scope of this order is dispositive.

Continuation of the Orders

As a result of the determinations by the Department and the ITC that revocation of the AD orders and the CVD order would likely lead to a continuation or recurrence of dumping and countervailable subsidies and material injury to an industry in the United States, pursuant to section 751(d)(2) of the Act and 19 CFR 351.218(a), the Department hereby orders the continuation of the AD orders on iron castings from Brazil, Canada, and the PRC, and the CVD order on heavy iron castings from Brazil. U.S. Customs and Border Protection will continue to collect cash deposits at the rates in effect at the time of entry for all imports of subject merchandise.

The effective date of the continuation of the AD orders and the CVD order will be the date of publication in the Federal Register of this notice of continuation. Pursuant to section 751(c)(2) of the Act, the Department intends to initiate the next five-year review of these orders not later than 30 days prior to the fifth anniversary of the effective date of this continuation notice.

These five-year sunset reviews and this notice are in accordance with sections 751(c) and 751(d)(2) of the Act and published pursuant to section 777(i)(1) of the Act and 19 CFR 351.218(f)(4).

Dated: December 29, 2016.
Paul Piquado,
Assistant Secretary for Enforcement and Compliance.

[FR Doc. 2017-00028 Filed 1-5-17; 8:45 am]

BILLING CODE 3510-DS-P